DEPARTMENT OF HEALTH AND HUMAN SERVICES

Office of the Secretary

Findings of Research Misconduct; Correction

AGENCY: Office of the Secretary, HHS.

ACTION: Correction of notice.

SUMMARY: This document corrects errors that appeared in the notice published in the April 29, 2020, Federal Register entitled “Findings of Research Misconduct.” The document contained an incorrect title and signature date.

DATES:

Applicable Date: May 11, 2020.

Applicability Date: The correction notice is applicable for the Findings of Research Misconduct notice published on April 29, 2020.

FOR FURTHER INFORMATION CONTACT: Elisabeth A. Handley at 240-453-8200.

SUPPLEMENTARY INFORMATION:

I. Background

In FR Doc. 2020-09086 of April 29, 2020 (85 FR 23834-23835), there were errors involving the title and signature date of the document. The errors are identified and corrected in the Correction of Errors section below.

II. Correction of Errors

In FR Doc. 2020-09086 of April 29, 2020 (85 FR 23834-23835), make the following corrections:

1. On page 23834, third column, in FR Doc. 2020-09086, Title section, correct line 33 to read “Request for Information and Comments on the Sequestration of Evidence during Research Misconduct Proceedings.”

2. On page 23835, third column, in FR Doc. 2020-09086, Supplementary Information section, correct line 44 to read “Dated: April 22, 2020.”

Dated: May 5, 2020.
Elisabeth A. Handley,
Director, Office of Research Integrity, Office of the Assistant Secretary for Health.

[FR Doc. 2020-09945 Filed 5-8-20; 8:45 am]

BILLING CODE 4150-31-P